DEPARTMENT OF HEALTH AND HUMAN SERVICES

Administration for Children and Families

Proposed Information Collection Activity; Medical Assessment Form and Dental Assessment Form (Office of Management and Budget 0970-0466)

AGENCY: Office of Refugee Resettlement, Administration for Children and Families, United States Department of Health and Human Services.

ACTION: Request for public comments.

SUMMARY: The Administration for Children and Families (ACF) is requesting a 3-year extension of the forms Medical Assessment Form (formerly, the Initial Medical Exam (IME) Form and Supplemental Tuberculosis (TB) Screening Form) and Dental Assessment Form (formerly, the Dental Exam Form) (Office of Management and Budget (OMB) #0970-0466, expiration December 31, 2023). Changes are proposed to the currently approved forms.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ACF Office of Refugee Resettlement (ORR) places unaccompanied children in their custody in care provider facilities until unification with a qualified sponsor. Care provider facilities are required to provide children with services such as mental health services and health care. Each child must receive an IME within 2 business days of admission to an ORR care provider program or temporary influx care facility. The IME satisfies Flores requirements which require a “complete medical examination, including a screening for infectious disease. The purposes of the IME are to assess general health, administer vaccinations in keeping with U.S. standards (also required by Flores), identify health conditions that require further attention, and detect contagious diseases of public health importance, such as influenza or TB. The IME is performed by a licensed health care provider and comprised of a complete medical history and physical exam, risk, and age-based laboratory screenings, TB screenings and immunizations. In addition, children may be referred to a medical specialist by their healthcare provider for acute or chronic conditions that require additional evaluation. Children who are in ORR care for an extended length of time may require routine well-child evaluations.

The forms are to be used as worksheets for generalist healthcare providers and pediatric and other medical specialty healthcare providers to compile information that would otherwise have been collected during the health evaluation. Once completed, the forms will be given to care provider program staff for data entry into ORR's secure, electronic data repository. Data will be used to monitor the health of unaccompanied children while in ORR care, for case management of any identified illnesses/conditions and ensure care provider program compliance with ORR requirements.

ORR has merged the former IME Form and Supplemental TB Screening Form into one form, the Medical Assessment Form which will be used during all medical evaluations with a mid-level or higher medical professional. ORR has incorporated other changes to the forms to streamline the flow of data collection, clarify the intent of certain fields, improve data quality, and ensure alignment with ORR program guidance. In addition, ORR has written instructional letters for the Medical Assessment Form and Dental Assessment Form to explain the purpose of the forms and provide general guidance on completion.

Respondents: Healthcare providers (pediatricians, medical specialists, and dentists), Care Provider Program Staff

Annual Burden Estimates

Estimated Opportunity Time for Respondents
Instrument | Respondent | Total number of respondents | Total number of responses per respondent | Average burden hours per response | Total burden hours | Annual burden hours
Medical Assessment Form | Pediatricians, General | 300 | 840 | 0.22 | 166,320 | 55,440
| Medical specialist, General | 750 | 22 | 0.22 | 10,890 | 3,630
Dental Assessment Form | Dentists | 250 | 64 | 0.12 | 5,760 | 1,920

Estimated Total Annual Burden Hours: 60,990.

Estimated Recordkeeping Time
Instrument | Respondent | Total number of respondents | Total number of responses per respondent | Average burden hours per response | Total burden hours | Annual burden hours
Medical Assessment Form completed by a medical professional | Care Provider Program Staff | 500 | 537 | 0.33 | 265,815 | 88,605
Medical Assessment form not completed by a medical professional (information obtained via health records) |  | 500 | 100 | 0.17 | 25,500 | 8,500
Dental Assessment Form |  | 500 | 32 | 0.17 | 8,160 | 2,720

Estimated Total Annual Burden Hours: 99,825.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279: Exhibit 1, part A.2 of the Flores Settlement Agreement (Jenny Lisette Flores, et al., v. Janet Reno, Attorney General of the United States, et al., Case No. CV 85-4544-RJK [C.D. Cal. 1996])

Mary B. Jones,
ACF/OPRE Certifying Officer.

[FR Doc. 2023-11626 Filed 5-31-23; 8:45 am]

BILLING CODE 4184-45-P